DEPARTMENT OF THE INTERIOR

Bureau of Ocean Energy Management, Regulation, and Enforcement (BOEMRE); Cancellation of Oil and Gas Lease Sale 215 in the Western Planning Area (WPA) on the Outer Continental Shelf (OCS) in the Gulf of Mexico (GOM)

AGENCY: Bureau of Ocean Energy Management, Regulation, and Enforcement, Interior.

ACTION: Cancellation of WPA Gulf of Mexico Lease Sale 215.

SUMMARY: On May 27, 2010, the President announced the Secretary of the Interior's decision to cancel WPA Sale 215 that was scheduled to occur on August 18, 2010. Cancellation of Sale 215 will allow time to develop and implement measures to improve the safety of oil and gas development in Federal waters, provide greater environmental protection, and substantially reduce the risk of catastrophic events. The Notice of Availability of the Proposed Notice of Sale for OCS Oil and Gas Lease Sale 215 in the WPA in the GOM was published in Federal Register Vol. 75, No 64, on Monday, April 5, 2010. The findings of the National Commission on the BP Deepwater Horizon Oil Spill and Offshore Drilling, (the National Commission was established by Executive Order 13543, dated May 21, 2010, as published in the Federal Register on May 26, 2010 (75 FR 29397)), environmental reviews, science-based analysis, and public input will inform the Secretary's decisions about whether to move forward with other leases sales in the Gulf of Mexico that are currently scheduled for 2011 and 2012.

FOR FURTHER INFORMATION CONTACT: Ms. Renee Orr, Bureau of Ocean Energy Management, Regulation, and Enforcement, Chief, Leasing Division, at (703) 787-1215 or renee.orr@mms.gov.

Dated: July 7, 2010.
Michael R. Bromwich,
Director, Bureau of Ocean Energy Management, Regulation, and Enforcement.

[FR Doc. 2010-18516 Filed 7-27-10; 8:45 am]

BILLING CODE 4310-MR-P